DEPARTMENT OF COMMERCE

International Trade Administration

[A-570-891]

Hand Trucks and Certain Parts Thereof From the People's Republic of China: Final Results of Antidumping Duty Changed Circumstances Review and Revocation, in Part

AGENCY: Enforcement and Compliance, International Trade Administration, Department of Commerce.

SUMMARY: On March 3, 2015, the Department of Commerce (the Department) published its notice of initiation and preliminary results of changed circumstances review, and intent to revoke, in part, the antidumping (AD) duty order on hand trucks and certain parts thereof (hand trucks) from the People's Republic of China (PRC).¹ We invited parties to comment and received no comments. Therefore, we are now revoking the order, in part, with respect to certain multifunction carts meeting the specifications described below.

¹ See Hand Trucks and Certain Parts Thereof From the People's Republic of China: Initiation and Preliminary Results of Changed Circumstances Review, and Intent To Revoke Order In Part, 80 FR 11396 (March 3, 2015) (Initiation and Preliminary Results).

DATES: Effective Dates: December 1, 2012 (AD order).

FOR FURTHER INFORMATION CONTACT: Scott Hoefke at (202) 482-4947 or Robert James at (202) 482-0649; AD/CVD Operations, Office VI, Enforcement and Compliance, International Trade Administration, U.S. Department of Commerce, 14th Street and Constitution Avenue NW., Washington, DC 20230.

SUPPLEMENTARY INFORMATION:

Background

On December 2, 2004, the Department published in the Federal Register the AD order on hand trucks from the PRC.² On December 9, 2014, in accordance with sections 751(b) and 751(d)(1) of the Tariff Act of 1930, as amended (the Act), 19 CFR 351.216(b), and 19 CFR 351.222(g)(1), Positec USA, Inc. and RW Direct, Inc. (collectively, Positec), importers, requested revocation, in part, of the Order with respect to its WORX Aerocart (Aerocart) as part of a changed circumstances review. Positec requested that the Department conduct the changed circumstances review on an expedited basis pursuant to 19 CFR 351.221(c)(3)(ii). On March 3, 2015, the Department published in the Federal Register the Initiation and Preliminary Results. As noted above, we gave interested parties an opportunity to comment on the Initiation and Preliminary Results. We received no comments from interested parties. Therefore, we are now revoking the Order, in part, with respect to certain multifunction carts meeting the specifications described below.

² See Notice of Antidumping Duty Order: Hand Trucks and Certain Parts Thereof From the People's Republic of China, 69 FR 70122 (December 2, 2004) (Order).

Scope of Changed Circumstances Review

The merchandise covered by this changed circumstances review is a multifunction cart that combines, among others, the capabilities of a wheelbarrow and dolly. The product comprises a steel frame that can be converted from vertical to horizontal functionality, two wheels toward the lower end of the frame and two removable handles near the top. In addition to a foldable projection edge in its extended position, it includes a permanently attached steel tub or barrow. This product is currently available under proprietary trade names such as the “Aerocart.”

The scope of the Order will be modified to read as stated below.

Scope of the Order

The merchandise subject to this Order consists of hand trucks manufactured from any material, whether assembled or unassembled, complete or incomplete, suitable for any use, and certain parts thereof, namely the vertical frame, the handling area and the projecting edges or toe plate, and any combination thereof.

A complete or fully assembled hand truck is a hand-propelled barrow consisting of a vertically disposed frame having a handle or more than one handle at or near the upper section of the vertical frame; at least two wheels at or near the lower section of the vertical frame; and a horizontal projecting edge or edges, or toe plate, perpendicular or angled to the vertical frame, at or near the lower section of the vertical frame. The projecting edge or edges, or toe plate, slides under a load for purposes of lifting and/or moving the load.

That the vertical frame can be converted from a vertical setting to a horizontal setting, then operated in that horizontal setting as a platform, is not a basis for exclusion of the hand truck from the scope of this petition. That the vertical frame, handling area, wheels, projecting edges or other parts of the hand truck can be collapsed or folded is not a basis for exclusion of the hand truck from the scope of the petition. That other wheels may be connected to the vertical frame, handling area, projecting edges, or other parts of the hand truck, in addition to the two or more wheels located at or near the lower section of the vertical frame, is not a basis for exclusion of the hand truck from the scope of the petition. Finally, that the hand truck may exhibit physical characteristics in addition to the vertical frame, the handling area, the projecting edges or toe plate, and the two wheels at or near the lower section of the vertical frame, is not a basis for exclusion of the hand truck from the scope of the petition.

Examples of names commonly used to reference hand trucks are hand truck, convertible hand truck, appliance hand truck, cylinder hand truck, bag truck, dolly, or hand trolley. They are typically imported under heading 8716.80.5010 of the Harmonized Tariff Schedule of the United States (HTSUS), although they may also be imported under heading 8716.80.5090. Specific parts of a hand truck, namely the vertical frame, the handling area and the projecting edges or toe plate, or any combination thereof, are typically imported under heading 8716.90.5060 of the HTSUS. Although the HTSUS subheadings are provided for convenience and customs purposes, the Department's written description of the scope is dispositive.

Excluded from the scope are small two-wheel or four-wheel utility carts specifically designed for carrying loads like personal bags or luggage in which the frame is made from telescoping tubular material measuring less than 5/8 inch in diameter; hand trucks that use motorized operations either to move the hand truck from one location to the next or to assist in the lifting of items placed on the hand truck; vertical carriers designed specifically to transport golf bags; and wheels and tires used in the manufacture of hand trucks.

Excluded from the scope is a multifunction cart that combines, among others, the capabilities of a wheelbarrow and dolly. The product comprises a steel frame that can be converted from vertical to horizontal functionality, two wheels toward the lower end of the frame and two removable handles near the top. In addition to a foldable projection edge in its extended position, it includes a permanently attached steel tub or barrow. This product is currently available under proprietary trade names such as the “Aerocart.”

Final Results of Changed Circumstances Review, and Revocation of the AD Order in Part

At the request of Positec, and in accordance with sections 751(b)(1) and (d)(1) of the Act, 19 CFR 351.216, and 19 CFR 351.222(g)(1), the Department initiated a changed circumstances review of the Order on hand trucks from the PRC to determine whether partial revocation of the Order is warranted with respect to certain multifunction carts.³ In addition, we determined that expedited action is warranted and, consistent with 19 CFR 351.221(c)(3)(ii), we combined the notices of initiation and preliminary results.⁴ Based on the expression of no interest by Petitioners, which stated that they are producers accounting for substantially all of the production of the domestic like product in support of the Order,⁵ and absent any objections by other domestic interested parties, we preliminarily determined that substantially all of the domestic producers of the like product have no interest in the continued application of the AD Order on hand trucks from the PRC to the merchandise that is subject to Positec's request. Therefore, we preliminarily determined that partial revocation of the Order is appropriate. Accordingly, we notified the public of our intent to revoke, in part, the AD Order with respect to certain multifunction carts. We did not receive any comments from parties objecting to the partial revocation. Because all parties to the proceeding agree to the outcome of the review, we are issuing these final results of changed circumstances review within 45 days of initiation in accordance with 19 CFR 351.216(e).

³ See Initiation and Preliminary Results.

⁴ Id.

⁵ See Letter from Petitioners, “Hand Trucks and Certain Parts Thereof From the People's Republic of China: Petitioner's Statement That It Has No Interest In the WORX Aerocart Being Subject to the Order,” dated December 10, 2014 at 3.

Therefore, in accordance with sections 751(d)(1) and 782(h) of the Act, and 19 CFR 351.222(g)(1)(i), the Department is partially revoking the AD Order on hand trucks from the PRC with respect to certain multifunction carts meeting the specifications described above. This partial revocation will be applied to entries of the certain multifunction cart entered or withdrawn from warehouse, for consumption, on or after December 1, 2012, which corresponds to the day following the last day of the most recently completed administrative review under the order.⁶

⁶ See Hand Trucks and Certain Parts Thereof From the People's Republic of China: Final Results of Antidumping Duty Administrative Review; 2011-2012, 79 FR 44008 (July 29, 2014).

Instructions to U.S. Customs and Border Protection

As we stated in our Initiation and Preliminary Results, we will instruct U.S. Customs and Border Protection to end the suspension of liquidation for the merchandise covered by the revocation on the effective date of this notice of revocation, in part, and to release any cash deposit or bond, pursuant to 19 CFR 351.222(g)(4).

Notification

This notice serves as a reminder to parties subject to administrative protective order (APO) of their responsibility concerning the disposition of proprietary information disclosed under APO in accordance with 19 CFR 351.306. Timely written notification of the return/destruction of APO materials or conversion to judicial protective order is hereby requested. Failure to comply with the regulations and terms of an APO is a sanctionable violation.

This notice is published in accordance with sections 751(b)(1) and 777(i)(1) of the Act and 19 CFR 351.216(e), 351.221(b)(5), and 351.222(g).

Dated: April 2, 2015.
Paul Piquado
Assistant Secretary for Enforcement and Compliance.

[FR Doc. 2015-08112 Filed 4-7-15; 8:45 am]

BILLING CODE 3510-DS-P